GENERAL SERVICES ADMINISTRATION

[OMB Control No. 3090-0300; Docket No. 2023-0001; Sequence No. 9]

Information Collection; General Services Administration Acquisition Regulation; Implementation of Information Technology Security Requirements

AGENCY: Office of Acquisition Policy, General Services Administration (GSA).

ACTION: Notice of request for comments regarding an extension to an existing OMB information collection.

SUMMARY: Under the provisions of the Paperwork Reduction Act of 1995, the Regulatory Secretariat Division will be submitting to the Office of Management and Budget (OMB) a request to review and approve a renewal of the currently approved information collection requirement regarding implementation of GSA information technology security requirements.

DATES: Submit comments on or before December 26, 2023.

ADDRESSES: Submit comments identified by Information Collection 3090-0300, Implementation of Information Technology Security Provision, via http://www.regulations.gov. Submit comments via the Federal eRulemaking portal by searching the OMB control number 3090-0300. Select the link “Comment Now” that corresponds with “Information Collection 3090-0300, Implementation of Information Technology Security Requirements”. Follow the instructions provided on the screen. Please include your name, company name (if any), and “Information Collection 3090-0300, Implementation of Information Technology Security Requirements” on your attached document.

Instructions: Please submit comments only and cite Information Collection 3090-0300, Implementation of Information Technology Security Requirements, in all correspondence related to this collection. Comments received generally will be posted without change to regulations.gov, including any personal and/or business confidential information provided. To confirm receipt of your comment(s), please check regulations.gov, approximately two-to-three days after submission to verify posting.

FOR FURTHER INFORMATION CONTACT: Mr. Stephen Carroll, Procurement Analyst, at GSARpolicy@gsa.gov or 817-978-0609.

SUPPLEMENTARY INFORMATION:

A. Purpose

General Services Acquisition Regulations (GSAR) requires that contractors accessing information systems that support the operations and assets of GSA, another agency, contractor, or other source, to comply with GSA's IT security policies including GSA IT's security policies outlined in CIO 09-48, IT Security Procedural Guide: Security and Privacy IT Acquisition Requirements and CIO 12-2018, IT Policy Requirements Guide.

B. Annual Reporting Burden

Respondents: 117.

Responses per Respondent: 2.

Total Annual Responses: 234.

Hours per Response: 5.

Total Burden Hours: 1,170.

C. Public Comments

Public comments are particularly invited on: Whether this collection of information is necessary for the proper performance of functions of the GSAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division (MVCB), at GSARegSec@gsa.gov. Please cite OMB Control No. 3090-0300, Implementation of Information Technology Security Requirements, in all correspondence.

Jeffrey A. Koses,
Senior Procurement Executive, Office of Acquisition Policy, Office of Government-wide Policy.

[FR Doc. 2023-23445 Filed 10-23-23; 8:45 am]

BILLING CODE P